DEPARTMENT OF COMMERCE

Foreign-Trade Zones Board

[Docket 53-2008]

Foreign-Trade Zone 242—Boundary County, ID; Application for Subzone; Hoku Materials, Inc.; Notice of Public Hearing and Extension of Comment Period

Pursuant to a timely request from a directly affected party showing good cause (15 CFR 400.51(b)), a public hearing will be held on the application for subzone status at the Hoku Materials, Inc., facility in Pocatello, Idaho, submitted by Boundary County, Idaho, grantee of Foreign-Trade Zone 242 (73 FR 59597, 10/9/08). The public hearing will take place on January 8, 2009, at 2 p.m., at the U.S. Department of Commerce, Room 4830, 1401 Constitution Ave., NW., Washington, DC. Interested parties should indicate their intent to participate in the hearing and provide a summary of their remarks no later than January 6, 2009.

Pursuant to 15 CFR 400.27(c)(2), the comment period for this case is being extended to January 23, 2009. Rebuttal comments may be submitted during the subsequent 15-day period, until February 9, 2009. Submissions (original and 3 copies) shall be addressed to the Board's Executive Secretary at: Foreign-Trade Zones Board, U.S. Department of Commerce, Room 2111, 1401 Constitution Ave., NW., Washington, DC 20230.

For further information, contact Diane Finver at Diane_Finver@ita.doc.gov or (202) 482-1367.

Dated: December 5, 2008.
Andrew McGilvray,
Executive Secretary.

[FR Doc. E8-29387 Filed 12-10-08; 8:45 am]

BILLING CODE 3510-DS-P